DEPARTMENT OF COMMERCE

National Oceanic and Atmospheric Administration

[RTID 0648-XD457]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Erin Markin, Ph.D. (Permit Nos. 23200-02 and 27109), Carrie Hubard (Permit No. 21485), Jennifer Skidmore (Permit No. 27489), and Shasta McClenahan, Ph.D. (Permit No. 21425-01); at (301) 427-8401.

SUPPLEMENTARY INFORMATION: Notices were published in the Federal Register on the dates listed below that requests for a permit, permit amendment, or permit modification had been submitted by the below-named applicants. To locate the Federal Register notice that announced our receipt of the application and a complete description of the activities, go to https://www.federalregister.gov and search on the permit number provided in Table 1 below.

Table 1—Issued Permits, Permit Amendments, and Permit Modifications
Permit No. | RTID | Applicant | Previous Federal Register notice | Issuance date
21425-01 | 0648-XG297 | Point Blue Conservation Science, 3820 Cypress Drive, No. 11, Petaluma, CA 94954 (Responsible Party: Grant Ballard, Ph.D.) | 83 FR 64114, December 13, 2018 | September 22, 2023.
21485-01 | 0648-XG288 | Jooke Robbins, Ph.D., Center for Coastal Studies, 5 Holway Avenue, Provincetown, MA 02657 | 84 FR 4441, February 15, 2019 | September 18, 2023.
23200-02 | 0648-XC219 | University of North Carolina, Wilmington, 601 South College Road, Wilmington, NC 28403 (Responsible Party: Frederick Scharf, Ph.D.) | 88 FR 52130, August 7, 2023 | September 21, 2023.
27109 | 0648-XD122 | Christopher Marshall, Ph.D., Texas A&M University, 200 Seawolf Parkway, Building 3029, Room 253, Galveston, TX 77553 | 88 FR 42915, July 5, 2023 | September 6, 2023.
27489 | 0648-XD261 | Los Angeles County Museum of Natural History, 900 Exposition Boulevard, Los Angeles, CA 90007 (Responsible Party: Lori Bettison-Varga, Ph.D.) | 84 FR 56606, August 18, 2023 | September 21, 2023.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: October 10, 2023.
Julia M. Harrison,
Chief, Permits and Conservation Division, Office of Protected Resources, National Marine Fisheries Service.

[FR Doc. 2023-22654 Filed 10-12-23; 8:45 am]

BILLING CODE 3510-22-P